ENVIRONMENTAL PROTECTION AGENCY

[EPA-HQ-OPP-2025-0007; FRL-12811-01-OCSPP]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were issued during the period from October 1, 2024, to March 31, 2025, to control unforeseen pest outbreaks.

FOR FURTHER INFORMATION CONTACT: Charles Smith, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive but rather provides a guide to help readers determine whether this document applies to them.

• Crop production (NAICS code 111)

• Animal production (NAICS code 112)

• Food manufacturing (NAICS code 311)

• Pesticide manufacturing (NAICS code 32532)

If you have any questions regarding the applicability of these actions to a particular entity, consult the person listed after FOR FURTHER INFORMATION CONTACT.

B. How can I get copies of this document and other related information?

The docket for this action, identified by docket identification (ID) number EPA-HQ-OPP-2025-0007, is available at https://www.regulations.gov. or at the Office of Pesticide Programs Regulatory Public Docket (OPP Docket) in the Environmental Protection Agency Docket Center (EPA/DC). West William Jefferson Clinton Bldg., Rm. 3334, 1301 Constitution Ave. NW, Washington, DC 20460-0001. The Public Reading Room is open from 8:30 a.m. to 4:30 p.m., Monday through Friday, excluding legal holidays. The telephone number for the Public Reading room and the OPP Docket is (202) 566-1744.

II. Background

EPA has granted or denied emergency exemption requests from the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency issued the exemption or denial, the type of exemption, the pesticide authorized or requested, the pests, the crop or use for which authorized or denied, number of acres (if applicable), and the duration of the exemption if authorized. EPA also provides the Code of Federal Regulations citation for the time-limited tolerance, if any.

III. Emergency Exemptions and Denials

A. U.S. States and Territories

California, Department of Pesticide Regulation

Specific exemptions: EPA authorized the use of kasugamycin on a maximum of 107,143 acres of almond trees to control bacterial blast. A time-limited tolerance in connection with a past action has been established in 40 CFR 180.614(b). The specific exemption was authorized on January 16, 2025, and use took place from February 1, 2025, through April 15, 2025.

EPA authorized the use of afidopyropen on a maximum of 17,000 acres of field-grown strawberries to control Lygus bugs. A time-limited tolerance in connection with a past action has been established in 40 CFR 180.700(b). The authorization is effective March 6, 2025, through November 30, 2025.

Colorado, Department of Agriculture

Denial: On November 27, 2024, EPA denied a specific exemption request for use of the unregistered product InsterusHZ, comprised of sterile corn earworm moths infected with an isolate of the insect virus, the Helicoverpa zea nudivirus 2 (HzNV2) for management of corn earworm on up to 1,750 acres of sweet corn in Colorado. Because an unregistered pesticide was requested, a Notice of Receipt (NOR) with opportunity for public comment (required by 40 CFR 166.24), published in the Federal Register on June 18, 2024 (89 FR 51523) (FRL-11995-01-OCSPP). The public comment period closed on July 3, 2024. Six comments were submitted, all in favor of allowing the use. Because the requested product was unregistered, and related data not yet evaluated, EPA was unable to make a determination with regard to potential risks to human health or the environment from exposure to Helicoverpa zea nudivirus 2 (HzNV2) and therefore denied the exemption request.

Specific exemption: EPA authorized the use of metamitron on a maximum of 22,468 acres of sugar beets for pre-emergence control of the invasive Amaranthus (pigweed) spp., Palmer amaranth. Because an unregistered pesticide was requested, an NOR with opportunity for public comment (required by 40 CFR 166.24), published in the Federal Register on October 25, 2024 (89 FR 85200) (FRL-12347-01-OCSPP). The public comment period closed on November 12, 2024. Eleven public comments were received: ten in favor and one objecting to the use. EPA posted a document addressing the comments to the docket for the NOR, as well as EPA's evaluations and risk assessments associated with the use, which may be accessed at https://www.regulations.gov/docket/EPA-HQ-OPP-2024-0463. EPA authorized the emergency exemption for this use after determining that the use would not result in any risks of concern to human health or the environment, and concluding that an urgent, nonroutine situation existed with significant economic losses expected without the use. A time-limited tolerance in connection with a past action was established in 40 CFR 180.726(b). The specific exemption was authorized on December 17, 2024, and was authorized to take place from March 30, 2025, through June 15, 2025.

Hawaii, Department of Agriculture

Specific exemption: EPA authorized the use of the unregistered product, DQB Males (Wolbachia pipientis DQB strain (wAlbB) contained in live adult male Culex quinquefasciatus mosquitoes) on a maximum of 20,000 acres of State, Federal, and private lands to control mosquitoes (Cx. quinquefasciatus). Because the applicant proposed a use of a new chemical, an NOR with opportunity for public comment in accordance with the requirements at 40 CFR 166.24(a)(1), published in the Federal Register on December 26, 2024 (89 FR 105039) (FRL-12509-01-OCSPP). The public comment period closed on January 10, 2025. There were no public comments received. The specific exemption was authorized March 13, 2025, and use may take place from April 25, 2025, through April 25, 2026.

Idaho, Department of Agriculture

Specific exemption: EPA authorized the use of metamitron on a maximum of 14,400 acres of sugar beets for pre-emergence control of the invasive Amaranthus (pigweed) spp., Palmer amaranth. Because an unregistered pesticide was requested, an NOR with opportunity for public comment (required by 40 CFR 166.24), published in the Federal Register on October 25, 2024 (89 FR 85200) (FRL-12347-01-OCSPP). The public comment period closed on November 12, 2024. Eleven public comments were received: ten in favor and one objecting to the use. EPA posted a document addressing the comments to the docket for the NOR, as well as EPA's evaluations and risk assessments associated with the use, which may be accessed at https://www.regulations.gov/docket/EPA-HQ-OPP-2024-0463. EPA authorized the emergency exemption for this use after determining that the use would not result in any risks of concern to human health or the environment, and concluding that an urgent, nonroutine situation existed with significant economic losses expected without the use. A time-limited tolerance in connection with a past action was established in 40 CFR 180.726(b). The specific exemption was authorized on December 17, 2024, and was authorized to take place from March 30, 2025, through June 15, 2025.

Quarantine exemption: EPA authorized the use of potassium chloride in 51 designated ponds and pools around the Middle Snake River to eradicate invasive quagga mussels. Because an unregistered pesticide was requested, an NOR published in the Federal Register on February 10, 2025 (90 FR 9242) (FRL-12546-01-OSCPP). The public comment period was waived for this NOR due to the urgency of need for the use. Therefore, no public comments were received. The authorization for this use is effective February 13, 2025, through February 13, 2028.

Massachusetts, Department of Agricultural Resources

Specific exemption: EPA authorized the use of pronamide (also known as propyzamide) on a maximum of 5,000 acres of cranberries to control dodder. A time-limited tolerance in connection with this action is established in 40 CFR 180.317(b). The specific exemption was authorized on March 12, 2025, and use may take place from April 15, 2025, through June 30, 2025.

Nebraska, Department of Agriculture

Specific exemption: EPA authorized the use of metamitron on a maximum of 47,025 acres of sugar beets for pre-emergence control of the invasive Amaranthus (pigweed) spp., Palmer amaranth. Because an unregistered pesticide was requested, an NOR with opportunity for public comment (required by 40 CFR 166.24), published in the Federal Register on October 25, 2024 (89 FR 85200) (FRL-12347-01-OCSPP). The public comment period closed on November 12, 2024. Eleven public comments were received: ten in favor and one objecting to the use. EPA posted a document addressing the comments to the docket for the NOR, as well as EPA's evaluations and risk assessments associated with the use, which may be accessed at https://www.regulations.gov/docket/EPA-HQ-OPP-2024-0463. EPA authorized the emergency exemption for this use after determining that the use would not result in any risks of concern to human health or the environment, and concluding that an urgent, nonroutine situation existed with significant economic losses expected without the use. A time-limited tolerance in connection with a past action was established in 40 CFR 180.726(b). The specific exemption was authorized on December 17, 2024, and was authorized to take place from March 30, 2025, through June 15, 2025.

Oregon, Department of Agriculture

Specific exemption: EPA authorized the use of metamitron on a maximum of 1,629 acres of sugar beets for pre-emergence control of the invasive Amaranthus (pigweed) spp., Palmer amaranth. Because an unregistered pesticide was requested, an NOR with opportunity for public comment (required by 40 CFR 166.24), published in the Federal Register on October 25, 2024 (89 FR 85200) (FRL-12347-01-OCSPP). The public comment period closed on November 12, 2024. Eleven public comments were received: ten in favor and one objecting to the use. EPA posted a document addressing the comments to the docket for the NOR, as well as EPA's evaluations and risk assessments associated with the use, which may be accessed at https://www.regulations.gov/docket/EPA-HQ-OPP-2024-0463. EPA authorized the emergency exemption for this use after determining that the use would not result in any risks of concern to human health or the environment, and concluding that an urgent, nonroutine situation existed with significant economic losses expected without the use. A time-limited tolerance in connection with a past action was established in 40 CFR 180.726(b). The specific exemption was authorized on December 17, 2024, and was authorized to take place from March 30, 2025, through June 15, 2025.

Wyoming, Department of Agriculture

Specific exemption: EPA authorized the use of metamitron on a maximum of 31,380 acres of sugar beets for pre-emergence control of the invasive Amaranthus (pigweed) spp., Palmer amaranth. Because an unregistered pesticide was requested, an NOR with opportunity for public comment (required by 40 CFR 166.24), published in the Federal Register on October 25, 2024 (89 FR 85200) (FRL-12347-01-OCSPP). The public comment period closed on November 12, 2024. Eleven public comments were received: ten in favor and one objecting to the use. EPA posted a document addressing the comments to the docket for the NOR, as well as EPA's evaluations and risk assessments associated with the use, which may be accessed at https://www.regulations.gov/docket/EPA-HQ-OPP-2024-0463. EPA authorized the emergency exemption for this use after determining that the use would not result in any risks of concern to human health or the environment, and concluding that an urgent, nonroutine situation existed with significant economic losses expected without the use. A time-limited tolerance in connection with a past action was established in 40 CFR 180.726(b). The specific exemption was authorized on December 17, 2024, and was authorized to take place from March 30, 2025, through June 15, 2025.

B. Federal Departments and Agencies

Agriculture Department: Animal and Plant Health Inspector Service

Quarantine exemptions: EPA authorized the use of citric acid for disinfection of hard porous and nonporous surfaces potentially contaminated with Foot-and-Mouth Disease Virus, African Swine Fever Virus, Highly Pathogenic Avian Flu Influenza Virus, and Low Pathogenic Avian Influenza Virus. The authorization for this use is effective March 20, 2025, through March 20, 2028.

EPA authorized the use of a mixture of potassium peroxymonosulfate and propylene glycol for disinfection of nonporous surfaces potentially contaminated with highly pathogenic avian influenza virus. The authorization for this use is effective March 26, 2025, through March 26, 2028.

National Aeronautics and Space Administration

Specific exemption: EPA authorized the use of the pesticide ortho-phthaldehyde, incorporated into a porous resin, to treat the coolant fluid of the internal active thermal control system of the International Space Station to control aerobic/microaerophilic bacteria in the aqueous coolant. Because the applicant proposed the use of a new chemical that has not been registered by EPA, an NOR with opportunity for public comment in accordance with the requirements at 40 CFR 166.24(a)(1), published in the Federal Register on September 3, 2024 (89 FR 71268) (FRL-12210-01-OCSPP). The public comment period closed on September 18, 2024, and no public comments were received. This docket may be accessed at https://www.regulations.gov/document/EPA-HQ-OPP-2024-0406-0001. The specific exemption was authorized on October 1, 2025, and use may take place October 7, 2024, through October 7, 2025.

Authority: 7 U.S.C. 136 et seq.

Dated: June 18, 2025.
Charles Smith,
Director, Registration Division, Office of Pesticide Programs.

[FR Doc. 2025-11593 Filed 6-23-25; 8:45 am]

BILLING CODE 6560-50-P